ENVIRONMENTAL PROTECTION AGENCY

[FRL-8698-1]

Proposed Administrative Settlement Under the Comprehensive Environmental Response, Compensation, and Liability Act

AGENCY: Environmental Protection Agency.

ACTION: Request for public comment.

SUMMARY: The U.S. Environmental Protection Agency is proposing to enter into an Administrative Settlement and Order on Consent for Removal Response Action, Docket No. CERC-03-2008-0092DC (“Proposed AOC”), relating to the Bally TCE Superfund Site (“Site”), located in Bally, Berks County, Pennsylvania. EPA is entering into this AOC with Respondent, American Household, Inc., formerly known as Sunbeam Corporation, pursuant to Sections 106(a) and 122(a) and (h)(1) of the Comprehensive Environmental Response, Compensation, and Liability Act of 1980, as amended, 42 U.S.C. 9606(a) and 9622(a) and (h)(1).

The Proposed AOC requires Respondent to perform a response action to address risks presented by vapor intrusion of Site-related hazardous substances at the Site. Pursuant to the Proposed AOC, in consideration of Respondent's performance of this response work, EPA shall provide Respondent with a covenant not to sue for reimbursement of oversight costs incurred by EPA with respect to this Settlement Agreement.

DATES: Comments must be provided within thirty (30) days from publication.

ADDRESS: Comments should be addressed to Lydia Guy, Regional Hearing Clerk, U.S. Environmental Protection Agency, Region III, 1650 Arch Street, Philadelphia, PA 19103-2029, and should refer to the Malvern TCE Superfund Site, East Whiteland Township, Chester County, Pennsylvania.

FOR FURTHER INFORMATION CONTACT: Joan A. Johnson (3RC41), 215/814-2619, U.S. Environmental Protection Agency, 1650 Arch Street, Philadelphia, Pennsylvania 19103-2029.

SUPPLEMENTARY INFORMATION: The Environmental Protection Agency will receive written comments relating to this settlement for thirty (30) days from the date of publication of this Notice. The Agency will consider all comments received and may modify or withdraw its consent to the settlement if comments received disclose facts or considerations which indicate that the settlement is inappropriate, improper, or inadequate.

A copy of the Proposed AOC can be obtained from Joan A. Johnson, U.S. Environmental Protection Agency, Region III, Office of Regional Counsel, 1650 Arch Street, Philadelphia, Pennsylvania 19103-2029, or by contacting Joan A. Johnson at (215) 814-2619.

Dated: July 17, 2008.
Donald S. Welsh,
Regional Administrator, U.S. Environmental Protection Agency, Region III.

[FR Doc. E8-17085 Filed 7-24-08; 8:45 am]

BILLING CODE 6560-50-P